DEPARTMENT OF TRANSPORTATION

Federal Aviation Administration

Notice of Intent To Rule on Application To Impose and Use a Passenger Facility Charge (PFC) at Phoenix Sky Harbor International Airport, Phoenix, AZ

AGENCY: Federal Aviation Administration (FAA), DOT.

ACTION: Notice of Intent to Rule on Application.

SUMMARY: The FAA proposes to rule and invites public comment on the application to impose and use a PFC at Phoenix Sky Harbor International Airport under the provisions of the Aviation Safety and Capacity Expansion Act of 1990 (Title IX of the Omnibus Budget Reconciliation Act of 1990) (Public Law 101-508) and Part 158 of the Federal Aviation Regulations (14 CFR Part 158).

DATES: Comments must be received on or before May 31, 2002.

ADDRESSES: Comments on this application may be mailed or delivered in triplicate to the FAA at the following address: Federal Aviation Administration, Airports Division, P.O. Box 92007, Los Angeles, CA 90009. In addition, one copy of any comments submitted to the FAA must be mailed or delivered to Mr. David Krietor, Director, City of Phoenix Aviation Department, 3400 Sky Harbor Blvd., Phoenix, AZ 85034. Air carriers and foreign air carriers may submit copies of written comments previously provided to the city of Phoenix under section 158.23 of Part 158.

FOR FURTHER INFORMATION CONTACT: Kevin Flynn, Supervisor, Arizona Standards Section, FAA Airports Division, P.O. Box 92007, Los Angeles, CA, 90009, Telephone: (310) 725-3632. The application may be reviewed in person at 15000 Aviation Blvd., Lawndale, CA 90261.

SUPPLEMENTARY INFORMATION: The FAA proposes to rule and invites public comment on the application to impose and use the revenue from a PFC at Phoenix Sky Harbor International Airport under the provisions of the Aviation Safety and Capacity Expansion Act of 1990 (Title IX of the Omnibus Budget Reconciliation Act of 1990) (Public Law 101-508) and Part 158 of the Federal Aviation Regulations (14 CFR part 158). On April 24, 2002, the FAA determined that the application to impose and use a PFC submitted by the city of Phoenix was substantially complete within the requirements of section 158.25 of part 158. The FAA will approve or disapprove the application, in whole or in part, no later than August 20, 2002.

The following is a brief overview of the application No.: 02-06-C-00-PHX.

Level of proposed PFC: $4.50.

Proposed charge effective date: July 1, 2002.

Proposed charge expiration date: June 1, 2006.

Total estimated PFC revenue: $224,366,000.

Brief description of the proposed projects: Complete Third Runway. (7R-25L) and Associated Projects, Rebuild Center Runway (7L/25R) and Associated Projects, Capital Security Improvements, Community Noise Reduction Program (Voluntary Land Acquisition/Property Exchange), Operating Security Improvements, Residential Sound Assistance Program

Level of proposed PFC: $3.00.

Proposed charge effective date: July 1, 2002.

Proposed charge expiration date: June 1, 2006.

Total estimated PFC revenue: $38,640,000.

Brief description of the proposed project: Automated People Mover System (APM)—Design Only.

Class or classes of air carriers which the public agency has requested not be required to collect PFCs: Nonscheduled/On-Demand Air Carriers filing FAA form 1800-31 and Commuters or Small Certificated Air Carriers filing DOT form 298-C T1 or E1.

Any person may inspect the application in person at the FAA Regional Airports Division located at: Federal Aviation Administration, Airports Division, 15000 Aviation Blvd., Lawndale, CA 90261. In addition, any person may, upon request, inspect the application, notice and other documents germane to the application in person at the city of Phoenix Aviation Department.

Issued in Lawndale, California, on April 24, 2002.
Ellsworth Chan,
Manager, Safety & Standards Branch, Western-Pacific Region.

[FR Doc. 02-10941 Filed 5-1-02; 8:45 am]

BILLING CODE 4910-13-M